DEPARTMENT OF HEALTH AND HUMAN SERVICES

Centers for Disease Control and Prevention

[60Day-04-16]

Proposed Data Collections Submitted for Public Comment and Recommendations

In compliance with the requirement of section 3506(c)(2)(A) of the Paperwork Reduction Act of 1995 for opportunity for public comment on proposed data collection projects, the Centers for Disease Control and Prevention (CDC) will publish periodic summaries of proposed projects. To request more information on the proposed projects or to obtain a copy of the data collection plans and instruments, call the CDC Reports Clearance Officer on (404) 498-1210.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Send comments to Seleda Perryman, CDC Assistant Reports Clearance Officer, 1600 Clifton Road, MS-E11, Atlanta, GA 30333. Written comments should be received within 60 days of this notice.

Proposed Project: Mechanisms of Foodborne Infectious Disease Outbreaks—New—Epidemiology Program Office (EPO), Centers for Disease Control and Prevention (CDC).

This study will systematically determine how local and state health departments find out about disease outbreaks. While it is assumed that speed and accuracy of outbreak detection can be improved, there is little reported analysis of current detection methods at the state and local levels. Great attention is being focused on improving infectious disease outbreak detection in the United States (U.S.), heightened by concerns of U.S. vulnerability to bioterrorist attack, and the inclusion of the development of enhanced syndromic surveillance systems. This information can be used to identify ineffective successful methods, and to motivate investments in alternative methods for outbreak detection.

The investigation will consist of a collection of available documentation about the outbreak and administration of a questionnaire to the local or state health department representative who identified each of 250 different outbreaks, which are sampled from the Electronic Foodborne Outbreak Reporting System (EFORS) database. The questionnaire will consist of both closed- and open-ended items, and will be administered via Web-form or telephone interview. The initial 250 outbreak sample will be stratified by State, partly in order to reasonably distribute survey burden. With an anticipated 80% response rate, the final sample will be approximately 200 outbreaks (and respondents).

Additional efforts to reduce survey burden will include completion of as many of the questionnaire items as possible prior to administration (based on supporting documents), and Web-form or telephone administration options. There will be no cost to respondents.

Respondents | No. of respondents | No. of responses per respondent | Average burden per response (in hours) | Total burden (in hours)
State and Local Health Departments Representatives | 200 | 1 | 1 | 200
Total |  |  |  | 200

Dated: December 16, 2003.
Alvin Hall,
Director, Management Analysis and Services Office, Centers for Disease Control and Prevention.

[FR Doc. 03-31524 Filed 12-22-03; 8:45 am]

BILLING CODE 4163-18-P